DEPARTMENT OF HEALTH AND HUMAN SERVICES

Centers for Disease Control and Prevention

Disease, Disability, and Injury Prevention and Control; Special Emphasis Panel (SEP): Mining Occupational Safety and Health Research (R01), Request for Application (RFA) OH08-003

In accordance with Section 10(a)(2) of the Federal Advisory Committee Act (Pub. L. 92-463), the Centers for Disease Control and Prevention (CDC) announces the aforementioned meeting:

Times and Dates: 5 p.m.-7 p.m., May 7, 2008 (Closed). 8 a.m.-5 p.m., May 8, 2008 (Closed). 8 a.m.-5 p.m., May 9, 2008 (Closed).

Place: Radisson Plaza-Warwick Hotel Philadelphia, 1701 Locust Street #411, Philadelphia, PA 19103.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of “Mining Occupational Safety and Health Research (R01), RFA OH08-003.”

Contact Person for More Information: Charles N. Rafferty, PhD, Assistant Director for Review and Policy Office of Extramural Programs, CDC, 1600 Clifton Road, NE., Mailstop E74, Atlanta, GA 30333, Telephone: (404) 498-2530.

The Director, Management Analysis and Services Office, has been delegated the authority to sign Federal Register notices pertaining to announcements of meetings and other committee management activities, for both CDC and the Agency for Toxic Substances and Disease Registry.

Dated: March 28, 2008.
Elaine L. Baker,
Director, Management Analysis and Services Office, Centers for Disease Control and Prevention.

[FR Doc. E8-7033 Filed 4-3-08; 8:45 am]

BILLING CODE 4163-18-P